DEPARTMENT OF HEALTH AND HUMAN SERVICES

Centers for Disease Control and Prevention

[60 Day-03-06]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Domestic Violence Prevention Enhancement and Leadership through Alliances (DELTA)—New—National Center for Injury Prevention and Control (NCIPC), Centers for Disease Control and Prevention (CDC).

Domestic violence is a large, potentially preventable source of physical and emotional harm for women, children, and families. One promising approach to domestic violence prevention is the coordinated community response (CCR) model wherein multiple agencies within a community come together to work collectively on domestic violence issues. However, many CCRs formed to date focus on responding to rather than preventing acts of violence. The CDC is launching the Domestic Violence Prevention Enhancement and Leadership Through Alliances (DELTA) demonstration program to stimulate the development of prevention-focused programs and the diffusion of the programs into the existing operations of CCRs, using nine state domestic violence coalitions as intermediaries.

This project, conducted by Mathematica Policy Research, Inc. (MPR) will first identify and describe each state's CCR structures and operations, then evaluate the DELTA Program's success in developing and disseminating prevention enhancements to CCRs. Mathematica will use an environmental scan to identify the full population of CCRs in each state, as well as profile the organizational, political, and economic landscape in which the CCRs operate. This information will assist CDC and the state coalitions in developing prevention enhancements that are responsive to the capacities and circumstances of local CCRs while at the same time providing baseline measures to facilitate and evaluation of the DELTA program. The DELTA program evaluation will then use these baseline measures, together with additional data collected each year throughout program implementation to assess how well the program performs in strengthening collaborative activity across domestic violence programs, developing prevention enhancements and incorporating them into current CCR operations, and institutionalizing organizational changes that will sustain primary prevention as part of the everyday workings of state coalitions and CCRs. Mathematica will conduct interviews with the nine state coalitions that are DELTA grantees every six months and conduct an annual survey of all local CCRs in the nine DELTA states. MPR will also conduct a one-time survey of state domestic violence coalitions and up to ten other organizations in each of the 41 non-DELTA states. There is no cost to respondents for any of these surveys.

Respondents | No. of respondents | No. of responses/ respondent | Avg. burden/response (in hrs.) | Total burden (in hrs.)
Telephone interviews with administrators of state domestic violence coalitions in DELTA states | 9 | 7 | 30/60 | 32
Telephone interviews with other organizations | 36 | 1 | 30/60 | 18
Mail Survey of local CCRs in DELTA states | 288 | 4 | 20/60 | 384
Mail survey of state domestic violence coalitions in non-Delta states | 41 | 1 | 30/60 | 21
Mail survey of other state agencies or advocacy groups in non-Delta states | 123 | 1 | 30/60 | 62
Telephone interviews with CCRs in Delta states | 40 | 1 | 30/60 | 20
Total |  |  |  | 537

Dated: October 16, 2002.
John Moore,
Acting Associate Director for Policy, Planning and Evaluation, Centers for Disease Control and Prevention.

[FR Doc. 02-27199 Filed 10-24-02; 8:45 am]

BILLING CODE 4163-18-P